DEPARTMENT OF COMMERCE

National Oceanic and Atmospheric Administration

RIN 0648-XC774

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 13-14, 2013. The Council will convene on Tuesday, August 13, 2013 from 9 a.m. to 5 p.m., and the Administrative Committee will meet from 5:15 p.m. to 6 p.m. The Council will reconvene on Wednesday, August 14, 2013, from 8:30 a.m. to 5 p.m.

ADDRESSES: The meetings will be held at the Hilton Ponce Golf and Casino Resort, 1150 Caribe Avenue, Ponce, Puerto Rico 00716-2015.

FOR FURTHER INFORMATION CONTACT: Caribbean Fishery Management Council, 270 Muñoz Rivera Avenue, Suite 401, San Juan, Puerto Rico 00918; telephone: (787) 766-5926.

SUPPLEMENTARY INFORMATION: The Council will hold its 147th regular Council Meeting to discuss the items contained in the following agenda:

August 13, 2013, 9 a.m.-5 p.m.

• Call to Order

• Election of Officials

• Adoption of Agenda

• Consideration of 146th Council Meeting Verbatim Transcriptions

• Executive Director's Report

• Scoping Meetings Report on the Development of Island-Based Fishery Management Plans (FMPs) in the U.S. Caribbean: Transition from Species-Based FMPs to Island-Based FMPs

• Adhoc Committee Report (July 24, 2013)

• Trap Reduction Project Report

• Results of Red Hind/Grouper Analysis—David Olsen

• Update on the CFMC/STFA Lobster Study—David Olsen

Public Comment Period (5-minutes presentations)

August 13, 2013, 5:15 p.m.-6 p.m.

• Administrative Committee Meeting

—Budget Update FY 2013/14

—SSC/AP Memberships

—Other Business

August 14, 2013, 8:30 a.m.-5 p.m.

• Fishery Workshops around Puerto Rico—Carlos Velazquez and Helena Antoun

• Don't Stop Talking Fish Video for the USVI—Lia Ortiz, Franklin Fullock and Angel Bolges

• Artificial Reef Project and Two Prototypes of Traps: Octopus and Spiny Lobster—Yabucoa Fishers Association—Héctor Padró

• The Productive Aspect of Deep-Water Snappers—Eugenio Pi eiro

• Spawning Aggregation Project Update—Richard Appeldoorn/Michel Sharer

• Tales from La Cordillera: Promoting Sustainable Fishing through Environmental Interpretation—Alejandro Torres

• Outreach and Education Meeting Report—Alida Ortiz

• Enforcement Issues:

—Puerto Rico-DNER

—U.S. Virgin Islands-DPNR

—NOAA/NMFS

—U.S. Coast Guard

• Administrative Committee Recommendations

• Meetings Attended by Council Members and Staff

Public Comment Period (5-minute presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: July 18, 2013.
Tracey L. Thompson,
Acting Deputy Director, Office of Sustainable Fisheries, National Marine Fisheries Service.

[FR Doc. 2013-17759 Filed 7-23-13; 8:45 am]

BILLING CODE 3510-22-P